SMALL BUSINESS ADMINISTRATION

[Declaration of Disaster #3459]

State of Texas (Amendment #1)

In accordance with a notice received from the Federal Emergency Management Agency, dated November 8, 2002, the above numbered declaration is hereby amended to include Aransas, Hardin, Harris, Jefferson, Orange and San Patricio Counties in the State of Texas as disaster areas due to damages caused by severe storms, tornadoes, and flooding occurring on October 24, 2002, and continuing.

In addition, applications for economic injury loans from small businesses located in Bee, Brazoria, Calhoun, Chambers, Fort Bend, Galveston, Jasper, Liberty, Live Oak, Montgomery, Newton, Polk, Refugio, Tyler and Waller Counties in Texas; and Calcasieu and Cameron Parishes in Louisiana may be filed until the specified date at the previously designated location. All other counties contiguous to the above named primary county have been previously declared.

The economic injury number assigned to Louisiana is 9S5100.

All other information remains the same, i.e., the deadline for filing applications for physical damage is January 6, 2003, and for economic injury the deadline is August 5, 2003.

(Catalog of Federal Domestic Assistance Program Nos. 59002 and 59008).

Dated: November 12, 2002.
Herbert L. Mitchell,
Associate Administrator for Disaster Assistance.

[FR Doc. 02-29167 Filed 11-15-02; 8:45 am]

BILLING CODE 8025-01-U